DEPARTMENT OF LABOR

Employment and Training Administration

[TA-W-59,113; TA-W-59,113A]

Sara Lee Branded Apparel Currently Known as Hanesbrands, Inc., Eden, NC; Sara Lee Branded Apparel, Currently Known as Hanesbrands, Inc., Galax, VA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 26, 2006, applicable to workers of Sara Lee Branded Apparel, Eden, North Carolina and Galax, Virginia. The notice was published in the Federal Register on May 11, 2006 (71 FR 27519).

At the request of a company official, the Department reviewed the certification for workers of the subject firm. The workers at the Eden, North Carolina location produce yarn for knit fabric and the workers at the Galax, Virginia location produce knit fabric.

New information shows that Sara Lee Branded Apparel is currently known as Hanesbrands, Inc. In September 2006, Sara Lee Corporation spun-off its Branded Apparel business and created an independent company, Hanesbrands, Inc. Workers separated from employment at the subject firm had their wages reported under a separate unemployment insurance (UI) tax account for Hanesbrands, Inc.

Accordingly, the Department is amending the certification to properly reflect this matter.

The intent of the Department's certification is to include all workers of Sara Lee Branded Apparel who were adversely affected by a shift in production to the Dominican Republic and El Salvador.

The amended notice applicable to TA-W-59,113 is hereby issued as follows:

All workers of Sara Lee Branded Apparel, currently known as Hanesbrands, Inc., Eden, North Carolina (TA-W-59,113) and Sara Lee Branded Apparel, currently known as Hanesbrands, Inc., Galax, Virginia (TA-W-59,113A), who became totally or partially separated from employment on or after March 22, 2005, through April 26, 2008, are eligible to apply for adjustment assistance under Section 223 of the Trade Act of 1974, and are also eligible to apply for alternative trade adjustment assistance under Section 246 of the Trade Act of 1974.”

Signed at Washington, DC, this 14th day of November 2006.
Richard Church,
Certifying Officer, Division of Trade Adjustment Assistance.

[FR Doc. E6-19713 Filed 11-21-06; 8:45 am]

BILLING CODE 4510-30-P